DEPARTMENT OF ENERGY

Federal Energy Regulatory Commission

Combined Notice of Filings #1

Take notice that the Commission received the following electric corporate filings:

Docket Numbers: EC12-83-000.

Applicants: Goshen Phase II LLC, Ridgeline Alternative Energy, LLC.

Description: Joint Application for Authorization under Section 203 of the Federal Power Act of Goshen Phase II and Ridgeline Alternative Energy.

Filed Date: 3/19/12.

Accession Number: 20120319-5240.

Comments Due: 5 p.m. ET 4/9/12.

Take notice that the Commission received the following electric rate filings:

Docket Numbers: ER12-41-000.

Applicants: ITC Midwest LLC.

Description: Filing of a Refund Report to be effective N/A.

Filed Date: 3/19/12.

Accession Number: 20120319-5099.

Comments Due: 5 p.m. ET 4/9/12.

Docket Numbers: ER12-922-001.

Applicants: Phillips 66 Company.

Description: Revision to Baseline MBR Tariff to be effective 4/1/2012.

Filed Date: 3/19/12.

Accession Number: 20120319-5215.

Comments Due: 5 p.m. ET 4/2/12.

Docket Numbers: ER12-1116-000.

Applicants: Cleco Power LLC, Cleco Evangeline LLC.

Description: Cleco Power LLC and Cleco Evangeline LLC submits the joint application requesting authorization from the Commission of a three-year power purchase agreement pursuant to Section 205 of the Federal Power Act.

Filed Date: 3/19/12.

Accession Number: 20120320-0001.

Comments Due: 5 p.m. ET 4/9/12.

Docket Numbers: ER12-1290-000.

Applicants: PJM Interconnection, L.L.C.

Description: Notice of Cancellation of Service Agreement 2850, to be effective 2/17/2012.

Filed Date: 3/19/12.

Accession Number: 20120319-5217.

Comments Due: 5 p.m. ET 4/9/12.

Docket Numbers: ER12-1291-000.

Applicants: Wellhead Power Delano, LLC.

Description: Wellhead Power Delano, LLC Market-Based Rate Tariff to be effective 5/10/2012.

Filed Date: 3/19/12.

Accession Number: 20120319-5230.

Comments Due: 5 p.m. ET 4/9/12.

Docket Numbers: ER12-1293-000.

Applicants: Portland General Electric Company.

Description: Request for Limited Waiver of Portland General Electric Company.

Filed Date: 3/19/12.

Accession Number: 20120319-5236.

Comments Due: 5 p.m. ET 4/9/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2012.
Nathaniel J. Davis, Sr.,
Deputy Secretary.

[FR Doc. 2012-7775 Filed 3-30-12; 8:45 am]

BILLING CODE 6717-01-P